FEDERAL MARITIME COMMISSION

Notice of Agreements Filed

The Commission hereby gives notice of the filing of the following agreements under the Shipping Act of 1984. Interested parties may obtain copies of agreements by contacting the Commission's Office of Agreements at 202-523-5793 or via email at tradeanalysis@fmc.gov. Interested parties may submit comments on an agreement to the Secretary, Federal Maritime Commission, Washington, DC 20573, within 10 days of the date this notice appears in the Federal Register.

Agreement No.: 011574-012.

Title: Pacific Islands Discussion Agreement.

Parties: Hamburg-Süd; Polynesia Line Ltd.; FESCO Ocean Management Limited d/b/a FESCO Australia North America Line; Australia-New Zealand Direct Line, a division of CP Ships (UK) Ltd.; CMA CGM SA; and Compagnie Maritime Marfret, SA.

Filing Party: Wayne R. Rohde, Esq.; Sher & Blackwell, LLP; 1850 M Street, NW; Suite 900; Washington, DC 20036.

Synopsis: The amendment adds a provision dealing with the liability for penalties.

Agreement No.: 011733-014.

Title: Common Ocean Carrier Platform Agreement.

Parties: A.P. Moller-Maersk A/S, P&O Nedlloyd Limited, Hamburg-Süd, Mediterranean Shipping Company S.A., CMA CGM S.A., Hapag Lloyd Container Linie GmbH, and United Arab Shipping Company (SAG), as shareholder parties, and Alianca Navegacao e Logistica Ltda., Safmarine Container Lines N.V., Nippon Yusen Kaisha, CP Ship Limited, Tasman Orient Line C.V., Mitsui O.S.K. lines Ltd., Lykes Lines Limited LLC, Kawasaki Kisen Kaisha Ltd., FESCO Ocean Management Ltd., and Senator Lines GmbH as non-shareholder parties.

Filing Party: Wayne R. Rohde, Esq.; Sher & Blackwell; 1850 M Street, NW., Suite 900; Washington, DC 20036.

Synopsis: The amendment would permit the tender function of the portal to be used for NVOCC service arrangements and to permit the portal to host individual rate information subject to certain confidentiality.

Agreement No.: 011808-001.

Title: HJS/Sinolines Slot Allocation & Sailing Agreement.

Parties: Hanjin Shipping Co., Ltd. and Sinotrans Container Lines Co., Ltd.

Filing Party: Robert B. Yoshitomi, Esq.; Nixon Peabody LLP; 2040 Main Street; Suite 850; Irvine, CA 92614.

Synopsis: The amendment expands the parties' slot exchange to vessels of third parties on which they have rights to space and increases the number of slots exchanged.

Agreement No.: 011823-005.

Title: Contship/P&O Nedlloyd Vessel Sharing Agreement.

Parties: P&O Nedlloyd Limited, P&O Nedlloyd B.V., and Contship Containerlines.

Filing Party: Neal M. Mayer, Esq.; Hoppel, Mayer & Coleman; 1000 Connecticut Avenue, NW., Washington, DC 20036.

Synopsis: The amendment revises the parties' service patterns and clarifies the amount of capacity that will be provided under the agreement.

Agreement No.: 011824-002.

Title: Contship/P&O Nedlloyd-CMA/Marfret Agreement.

Parties: P&O Nedlloyd Limited, P&O Nedlloyd B.V., Contship Containerlines, CMA CGM, S.A., CMA CGM (UK) Limited, and Compagnie Maritime Marfret, S.A.

Filing Party: Neal M. Mayer, Esq.; Hoppel, Mayer & Coleman; 1000 Connecticut Avenue, NW., Washington, DC 20036.

Synopsis: The amendment revises the parties' service patterns and clarifies the amount of capacity that will be provided under the agreement.

Agreement No.: 011825-002.

Title: CS/PONL-HSDG Agreement.

Parties: P&O Nedlloyd Limited, P&O Nedlloyd B.V., Contship Containerlines, and Hamburg Süd.

Filing Party: Neal M. Mayer, Esq.; Hoppel, Mayer & Coleman; 1000 Connecticut Avenue, NW., Washington, DC 20036.

Synopsis: The amendment revises the parties' service patterns and clarifies the amount of capacity that will be provided under the agreement.

Agreement No.: 011826-002.

Title: CS/PONL-Hapag-Lloyd Agreement.

Parties: P&O Nedlloyd Limited; P&O Nedlloyd B.V.; Contship Containerlines; and Hapag-Lloyd Container Linie GmbH.

Filing Party: Neal M. Mayer, Esq.; Hoppel, Mayer & Coleman; 1000 Connecticut Avenue, NW., Washington, DC 20036.

Synopsis: The amendment revises the parties' service patterns and clarifies the amount of capacity that will be provided under the agreement.

Agreement No.: 011899.

Title: Manzanillo/Savannah Space Charter Agreement.

Parties: Hamburg-Süd; Contship Containerlines, a division of CP Ships (UK) Ltd.; and P&O Nedlloyd Limited/P&O Nedlloyd B.V. (As one party).

Filing Party: Paul D. Coleman, Esq.; Hoppel, Mayer & Coleman; 1000 Connecticut Avenue, NW., Washington, D.C. 20036.

Synopsis: The subject agreement would permit Contship and HSDG to charter space from P&O on cargoes destined for Savannah and transshipped at Manzanillo in the trade between United States' ports and ports in Australia and New Zealand.

Agreement No.: 200955-001.

Title: Howland Hook/Global Terminal Agreement.

Parties: Howland Hook Leasing Corporation; Global Terminal & Container Services, Inc.; and New York Container Terminal, Inc.

Filing Party: Mark M. Jaffe, Esq.; Hill, Betts & Nash, LLP; 200 Liberty Street; 26th Floor; New York, New York 10281.

Synopsis: The amendment makes New York Container Terminal, Inc. the active stevedore party for the Staten Island facility of the agreement. The modification further makes technical and housekeeping changes to the agreement.

Dated: February 4, 2005.
By Order of the Federal Maritime Commission.
Bryant L. VanBrakle,
Secretary.

[FR Doc. 05-2524 Filed 2-8-05; 8:45 am]

BILLING CODE 6730-01-P